OFFICE OF PERSONNEL MANAGEMENT

January 2020 Pay Schedules

AGENCY: Office of Personnel Management.

ACTION: Notice.

SUMMARY: The President adjusted the rates of basic pay and locality payments for certain Federal civilian employees effective in January 2020. The Executive order authorizes a 2.6 percent across-the-board increase for statutory pay systems and locality pay increases costing approximately 0.5 percent of basic payroll, reflecting an overall average pay increase of 3.1 percent. This notice serves as documentation for the public record.

FOR FURTHER INFORMATION CONTACT: Kimberly Woods, Pay and Leave, Employee Services, Office of Personnel Management; (202) 606-2858 or pay-leave-policy@opm.gov.

SUPPLEMENTARY INFORMATION: On December 26, 2019, the President signed Executive Order (E.O.) 13901 (84 FR 72213), which implemented a pay adjustment required by the Consolidated Appropriations Act, 2020 (Pub. L. 116-93, December 20, 2019). E.O. 13901 provides an overall average pay increase of 3.1 percent for the statutory pay systems. The pay rates in E.O. 13866 have been superseded.

The publication of this notice satisfies the requirement in Section 5(b) of E.O. 13901 that the Office of Personnel Management (OPM) publish appropriate notice of the 2020 locality payments in the Federal Register.

Schedule 1 of E.O. 13901 provides the rates for the 2020 General Schedule (GS) and reflects a 2.6 percent increase from 2019. Executive Order 13901 also includes the percentage amounts of the 2020 locality payments. (See Section 5 and Schedule 9 of Executive Order 13901.)

General Schedule employees receive locality payments under 5 U.S.C. 5304. Locality payments apply in the United States (as defined in 5 U.S.C. 5921(4)) and its territories and possessions. In 2020, locality payments ranging from 15.95 percent to 41.44 percent apply to GS employees in the 53 locality pay areas. The 2020 locality pay area definitions can be found at: https://www.opm.gov/policy-data-oversight/pay-leave/salaries-wages/2020/locality-pay-area-definitions/.

The 2020 locality pay percentages became effective the first day of the first pay period beginning on or after January 1, 2020 (January 5, 2020). An employee's locality rate of pay is computed by increasing his or her scheduled annual rate of pay (as defined in 5 CFR 531.602) by the applicable locality pay percentage. (See 5 CFR 531.604 and 531.609.)

Executive Order 13901 establishes the new Executive Schedule (EX), which incorporates a 2.6 percent increase required under 5 U.S.C. 5318 (rounded to the nearest $100). By law, Executive Schedule officials are not authorized to receive locality payments.

Executive Order 13901 establishes the 2020 range of rates of basic pay for members of the Senior Executive Service (SES) under 5 U.S.C. 5382. The minimum rate of basic pay for the SES is $131,239 in 2020. The maximum rate of the SES rate range is $197,300 (level II of the Executive Schedule) for SES members who are covered by a certified SES performance appraisal system and $181,500 (level III of the Executive Schedule) for SES members who are not covered by a certified SES performance appraisal system.

The minimum rate of basic pay for the senior-level (SL) and scientific and professional (ST) rate range was increased by 2.6 percent ($131,239 in 2020), which is the amount of the across-the-board GS increase. The applicable maximum rate of the SL/ST rate range is $197,300 (level II of the Executive Schedule) for SL or ST employees who are covered by a certified SL/ST performance appraisal system and $181,500 (level III of the Executive Schedule) for SL or ST employees who are not covered by a certified SL/ST performance appraisal system. Agencies with certified performance appraisal systems for SES members and employees in SL and ST positions must also apply a higher aggregate limitation on pay—up to the Vice President's salary ($253,300 in 2020.)

Note that Section 749 of division C of the Consolidated Appropriations Act, 2020, continues a pay freeze for certain senior political officials. The section 749 pay freeze extends through the last day of the last pay period that begins in calendar year 2020 (i.e., January 2, 2021, for those on the standard biweekly payroll cycle). Future Congressional action will determine whether the pay freeze continues beyond that date. OPM guidance on the 2020 pay freeze for certain senior political officials can be found in CPM 2019-28 at https://www.chcoc.gov/content/continued-pay-freeze-certain-senior-political-officials-3.

Executive Order 13901 provides that the rates of basic pay for administrative law judges (ALJs) under 5 U.S.C. 5372 are increased by 2.6 percent (rounded to the nearest $100) in 2020. The rate of basic pay for AL-1 is $170,800 (equivalent to the rate for level IV of the Executive Schedule). The rate of basic pay for AL-2 is $166,500. The rates of basic pay for AL-3/A through 3/F range from $114,000 to $157,800.

The rates of basic pay for members of Contract Appeals Boards are calculated as a percentage of the rate for level IV of the Executive Schedule. (See 5 U.S.C. 5372a.) Therefore, these rates of basic pay are increased by 2.6 percent in 2020.

On November 19, 2019, OPM issued a memorandum on behalf of the President's Pay Agent (the Secretary of Labor and the Directors of the Office of Management and Budget and OPM) that continues GS locality payments for ALJs and certain other non-GS employee categories in 2020. By law, EX officials, SES members, employees in SL/ST positions, and employees in certain other equivalent pay systems are not authorized to receive locality payments. (Note: An exception applies to certain grandfathered SES, SL, and ST employees stationed in a nonforeign area on January 2, 2010. See CPM 2009-27 at https://www.chcoc.gov/content/nonforeign-area-retirement-equity-assurance-act.) The memo is available at https://www.opm.gov/policy-data-oversight/pay-leave/salaries-wages/2019/continuation-of-locality-payments-for-non-general-schedule-employees-november-19-2019.pdf.

On December 26, 2019, OPM issued a memorandum (CPM 2019-25) on the 2020 pay adjustments. (See https://www.chcoc.gov/content/january-2020-pay-adjustments.) The memorandum transmitted Executive Order 13901 and provided the 2020 salary tables, locality pay areas and percentages, and information on general pay administration matters and other related guidance. The “2020 Salary Tables” posted on OPM's website at http://www.opm.gov/policy-data-oversight/pay-leave/salaries-wages/ are the official rates of pay for affected employees and are hereby incorporated as part of this notice.

Office of Personnel Management.
Alexys Stanley,
Regulatory Affairs Analyst.

[FR Doc. 2020-04484 Filed 3-4-20; 8:45 am]

BILLING CODE 6325-39-P